SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 28, 2011.

ADDRESSES: Send all comments regarding whether this information collection is necessary for the proper performance of the function of the agency, whether the burden estimates are accurate, and if there are ways to minimize the estimated burden and enhance the quality of the collection, to Dean Koppel, Assistant Administrator, Office of Policy and Research, Small Business Administration, 409 3rd Street, 6th Floor, Washington, DC 20416.

FOR FURTHER INFORMATION CONTACT: Dean Koppel, Assistant Administrator, Office of Policy and Research, 202-205-7332, dean.koppel@sba.gov Curtis B. Rich, Management Analyst, 202-205-7030 curtis.rich@sba.gov.

SUPPLEMENTARY INFORMATION: A small business determined to be non responsible for award of a specific prime Government contract by a Government contracting office has the right to appeal that decision through the Small Business Administration (SBA). The information contained on this form, as well as, other information developed by SBA, is used in the evaluation process.

Title: “SBA Application for Certificate of Competency.”

Description of Respondents: Prime Government Contractors.

Form Number: 1531.

Annual Responses: 275.

Annual Burden: 2,200.

Jacqueline White,
Chief, Administrative Information Branch.

[FR Doc. 2010-29946 Filed 11-26-10; 8:45 am]

BILLING CODE 8025-01-P